DEPARTMENT OF DEFENSE

Department of the Army; Corps of Engineers

Notice of Availability of the Draft Environmental Impact Statement for the Proposed Stormwater Treatment Areas in Everglades Agricultural Area Located in Palm Beach and Hendry Counties, FL

AGENCY: U.S. Army Corps of Engineers, DoD.

ACTION: Notice of availability.

SUMMARY: The U.S. Army Corps of Engineers (USACE) is issuing this notice to advise the public that a Draft Environmental Impact Statement (Draft EIS) has been completed and is available for review and comment.

DATES: In accordance with the National Environmental Policy Act (NEPA), we have filed the Draft EIS with the U.S. Environmental Protection Agency (EPA) for publication of their notice of availability in the Federal Register. The EPA notice officially starts the 45-day review period for this document. It is the goal of the USACE to have this notice published on the same date as the EPA notice. However, if that does not occur, the date of the EPA notice will determine the closing date for comments on the Draft EIS. Comments on the Draft EIS must be submitted to the address below under Further Contact Information and must be received no later than 5 p.m. Eastern Standard Time, Monday, July 21, 2008.

Scoping: Scoping Meetings were held in West Palm Beach, FL, and Belle Glade, FL, on July 25th and 26th, respectively, to gather information for the preparation of the Draft EIS. Public notices were posted in Broward, Palm Beach and Hendry County newspapers, and e-mailed and air-mailed to current stakeholder lists with notification of the public meetings and requesting input and comments on issues that should be addressed in the Draft EIS.

A public meeting for this Draft EIS will be held on Wednesday, June 25, 2008, from 6 to 9 p.m. at University of Florida, Institute of Food and Agricultural Sciences, Everglades Research and Education Conference Center, 3200 E. Palm Beach Road, Belle Glade, FL 33430. The purpose of this public meeting is to provide the public the opportunity to comment, either orally or in writing, on the Draft EIS. Notification of the meeting will be announced following same format as the Scoping Meetings announcements.

ADDRESSES: The Draft EIS can be viewed online at http://www.saj.usace.army.mil/regulatory/index.htm. Copies of the Draft EIS are also available for review at the following libraries:

Belle Glade Branch Public Library, 530 S. Main Street, Belle Glade, FL 33430, Palm Beach County Main Library, 3650 Summit Blvd., W. Palm Beach, FL 33406,

Clewiston Public Library, 120 W. Osceola Ave., Clewiston, FL 33440,

Pahokee Branch Public Library, 525 Bacom Point Rd., Pahokee, FL 33476,

Legislative Library, 701 The Capitol, Tallahassee, FL 32399-1300,

Glades County Public Library, P.O. Box 505, Riverside Dr., Moorehaven, FL 33471,

South Bay Public Library, 375 SW. 2nd Ave., South Bay, FL 33493.

FOR FURTHER INFORMATION CONTACT: Ms. Tori White, Section Chief, U.S. Army Corps of Engineers, Jacksonville District, 4400 PGA Boulevard, Suite 500, Palm Beach Gardens, Florida 33410, Telephone: 561-472-3517, Fax: 561-626-6971.

SUPPLEMENTARY INFORMATION: The South Florida Water Management District (SFWMD) proposes to construct and operate stormwater treatment areas (STAs) on Compartments B and C of the Everglades Agricultural Area in Palm Beach and Hendry Counties, Florida. Compartment B STA will consist of approximately 6,700 acres of effective treatment area, and will be operated in close coordination with the existing STA 2 to assist in the phosphorus reduction capability of this STA, which discharges into Water Conservation Area (WCA) 2A. The SFWMD also proposes that the Compartment B STA be used to receive flows that otherwise would be directed to STA 1W and STA 1E assuming there is capacity in the existing canals. The Compartment C STA will consist of approximately 6,200 acres of effective treatment area, and will be operated in close coordination with existing STA 5 and STA 6 to assist in the phosphorus reduction capability of these two STAs, which discharge into WCA 3A and Rotenberger Wildlife Management Area. As proposed, the project would impact approximately 7,591 acres and 5,918 acres of jurisdictional wetlands and other waters of the United States associated with the construction of Compartments B and C, respectively. The SFWMD would need to obtain a Department of the Army permit pursuant to Section 404 of the Clean Water Act from the USACE and an interim land use approval from Department of the Interior for construction of Compartments B and C which were purchased with federal funds for Everglades restoration. This Draft Environmental Impact Statement evaluates the environmental effects of 5 alternatives including the SFWMD's preferred alternative described above, 2 additional alternatives that utilize Compartments B and C but with a different operational regime for Compartment B, an alternative that includes other lands for construction of an STA to assist existing STA 1W and STA 1E, and the no action alternative.

Dated: June 2, 2008.
Donald W. Kinard,
Deputy Chief, Regulatory Division.

[FR Doc. E8-12985 Filed 6-9-08; 8:45 am]

BILLING CODE 3710-AJ-P